FEDERAL MARITIME COMMISSION

Ocean Transportation Intermediary License

Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 18040NF.

Name: Brit-Am, Logistics Management Services, Inc.

Address: 6425 Woodstone Way, Morrow, GA 30260.

Date Revoked: May 7, 2003.

Reason: Failed to maintain valid bonds.

License Number: 17950N.

Name: CK Logistics, Inc.

Address: 500 Sandau Road, Suite 600, San Antonio, TX 72816.

Date Revoked: February 26, 2003.

Reason: Surrendered license voluntarily.

License Number: 6064N.

Name: Container Management, Inc.

Address: 3250 NW North River Drive, Miami, FL 33142.

Date Revoked: May 18, 2003.

Reason: Failed to maintain a valid bond.

License Number: 770F.

Name: Francesco Parisi, Inc..

Address: C/O George Funaro & Co., P.C., One Penn Plaza, Suite 3515, New York, NY 10119.

Date Revoked: May 22, 2003.

Reason: Surrendered license voluntarily.

License Number: 16006N.

Name: Grand Bell, Inc. dba Grand Bell Maritime U.S.A.

Address: 17785 Center Court Drive, Suite 260, Cerritos, CA 90703.

Date Revoked: June 14, 2001.

Reason: Failed to maintain a valid bond.

License Number: 8188N.

Name: Interocean Transporters Network Corporation.

Address: 821 East 230th Street, Carson, CA 90745.

Date Revoked: May 12, 2003.

Reason: Surrendered license voluntarily.

License Number: 61F.

Name: Rue Forwarding Company, Inc.

Address: 45 John Street, New York, NY 10038.

Date Revoked: May 17, 2003.

Reason: Failed to maintain a valid bond.

License Number: 17264N.

Name: Trans Atlantic Container Lines Inc.

Address: 1200 Fuller Road, Bldg. M-2, Suite 217, Linden, NJ 07036.

Date Revoked: May 18, 2003.

Reason: Failed to maintain a valid bond.

License Number: 17149N.

Name: Triple Star International Freight Inc. dba Tagumpay Cargo.

Address: 31883 Alvarado Blvd., Union City, CA 94587.

Date Revoked: February 14, 2002.

Reason: Failed to maintain a valid bond.

Dated: May 30, 2003.
Sandra L. Kusumoto,
Director, Bureau of Consumer Complaints and Licensing.

[FR Doc. 03-14052 Filed 6-3-03; 8:45 am]

BILLING CODE 6730-01-P